DEPARTMENT OF COMMERCE

National Oceanic and Atmospheric Administration

Marine and Coastal Area-Based Management Advisory Committee Meeting

AGENCY: National Oceanic and Atmospheric Administration (NOAA), Department of Commerce.

ACTION: Notice of open public meeting.

SUMMARY: This notice sets forth the proposed schedule and agenda of a forthcoming meeting of the Marine and Coastal Area-based Management Advisory Committee (MCAM). The members will discuss and provide advice on issues outlined under SUPPLEMENTARY INFORMATION below.

DATES: The meeting will be August 27-28, 2024 from 12:30 p.m. to 5 p.m. Eastern Time.

ADDRESSES: The meeting will be held virtually on the Google Meets Platform. Registration is not required. Participants may join the meeting with the following:

Join from computer: meet.google.com/pod-mvsq-wab.

Join by phone: (US) +1 929-277-6190; PIN: 482 233 540#.

FOR FURTHER INFORMATION CONTACT: Lauren Wenzel, Director, NOAA's National Marine Protected Areas Center, Lauren.Wenzel@noaa.gov, (240) 533-0652; or Heather Sagar, Senior Policy Advisor, NOAA Fisheries, Heather.Sagar@noaa.gov, (301) 427-8019.

SUPPLEMENTARY INFORMATION: As required by section 10(a)(2) of the Federal Advisory Committee Act, 5 U.S.C. 1009(a)(2), notice is hereby given of a meeting of MCAM. The MCAM was established in 2022 to advise the Under Secretary of Commerce for Oceans and Atmosphere on science-based approaches to area-based protection, conservation, restoration, and management in coastal and marine areas, including the Great Lakes. The charter is located online at https://oceanservice.noaa.gov/ocean/marine-coastal-fac/.

I. Matters To Be Considered

The meeting time and agenda are subject to change. The meeting is convened to discuss the following topics: area-based management in the U.S.; effectiveness and outcomes of area-based management; how NOAA may best leverage area-based management investments, including Bipartisan Infrastructure Law and Inflation Reduction Act funds; meaningful community engagement in area-based management; how NOAA can better support and prioritize Indigenous-led conservation and co-stewardship; as well as various administrative and organizational matters. The times and the agenda topics described here are subject to change. For the most up-to-date meeting times, agenda, and meeting materials, refer to the MCAM website (https://oceanservice.noaa.gov/ocean/marine-coastal-fac/meetings.html).

II. Public Comment Instructions

The meeting will be open to public comment (check agenda on the MCAM website to confirm the time for oral public comment during the meeting). Written comments should be received by the Designated Federal Official by August 21, 2024, to provide sufficient time for Committee review. Written comments received after August 21, 2023, will be distributed to the Committee, but may not be reviewed prior to the meeting date. To submit written comments, please email Ellie Roberts, ellie.roberts@noaa.gov. Written comments NOAA receives are considered part of the public record, and the entirety of the comment, including the name of the commenter, email address, attachments, and other supporting materials, will be publicly accessible. Sensitive personally identifiable information, such as account numbers and Social Security numbers, should not be included with the comment. Comments that contain profanity, vulgarity, threats, or other inappropriate language will not be considered.

III. Special Accommodations

This meeting is physically accessible to people with disabilities. Requests for sign language interpretation or other auxiliary aids should be directed to Ellie Roberts at ellie.roberts@noaa.gov, at least 5 days prior to the meeting date.

John Armor,
Designated Federal Official, Marine and Coastal Area-based Management Advisory Committee, Director, Office of National Marine Sanctuaries, National Ocean Service, National Oceanic and Atmospheric Administration.

[FR Doc. 2024-17718 Filed 8-9-24; 8:45 am]

BILLING CODE 3510-NK-P